POSTAL SERVICE

39 CFR Part 111

Caller Service—Customized Address

AGENCY: Postal Service™.

ACTION: Proposed rule.

SUMMARY: The Postal Service is proposing to amend Mailing Standards of the United States Postal Service, Domestic Mail Manual (DMM®) in various sections to introduce a new service feature, Caller Service—Customized Address.

DATES: Submit comments on or before July 5, 2022.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “Caller Service—Customized Address”. Faxed comments are not accepted. You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Drew Mitchum (202) 268-7351 or Doriane Harley at (202) 268-2537.

SUPPLEMENTARY INFORMATION: Caller Service is a premium service available for a fee to any customer meeting certain mailing standards. Currently, Caller Service customers are not allowed to omit their Post Office Box number from the address of the mailpiece.

The Postal Service is proposing to allow approved Caller Service customers with a unique 5-digit ZIP Code to add Customized Address by paying for the right to omit the P.O. Box number and replacing it with a different approved address line. For example, a Caller Service customer with a unique ZIP Code could replace “P.O. Box 1287” with “One Postal Way.” Only the P.O. Box portion of the address would be replaced; the unique ZIP Code would remain as part of the city/state line.

A current approved Caller Service customer with a unique 5-digit ZIP Code may request Customized Address by using forms available at their approved postal facility and paying a one-time onboarding fee of $2,000. After the first year, a fee of $1,000 would be charged for each authorized delivery address line per annual (12-month) period. In addition to being limited to those customers with a unique 5-digit ZIP Code, Customized Address would also be restricted to use with letters and flats. Any parcels that are delivered to the address that do not bear evidence of postage payment would be delivered postage due at the appropriate Parcel Select rate.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes if adopted.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) to read as follows:

Mailing Standards of the United States Postal Service, Domestic Mail Manual (DMM)

* * * * *

500 Additional Services

* * * * *

508 Recipient Services

* * * * *

5.0 Caller Service

* * * * *

5.2 Basic Information

* * * * *

[Revise the title and text of 5.2.7 to read as follows:]

5.2.7 Exemptions

Postmasters may exempt caller service customers from the requirement in 5.2.6 that they must use their assigned Post Office Box number in their mailing address under the following circumstances:

a. The customer has been continuously receiving firm holdout service since July 3, 1994; or

b. The customer is in compliance with the requirements in 5.9.

* * * * *

[Add new section 5.9 to read as follows:]

5.9 Customized Address

For an annual fee (see 5.9.1), caller service customers assigned a unique 5-digit ZIP Code may use one or more authorized delivery address line(s) in place of their assigned PO Box number(s). The city, state, and ZIP Code must remain as provided in the customer's unique ZIP Code agreement and caller service agreement.

5.9.1 Required Use

Customized Address is restricted for use with letters and flats. Any parcels that are delivered to the address that do not bear evidence of postage payment would be delivered postage due at the appropriate Parcel Select rate.

5.9.2 Application and Fees

A current approved caller service customer must complete the Customized Address customer agreement at their approved postal facility and pay a one-time onboarding fee of $2000. After the first year, a fee of $1000 is charged for each authorized delivery address line per annual (12-month) period.

5.9.3 USPS Actions

USPS will not authorize requested delivery address lines until it verifies the applicant's primary and secondary forms of identification as acceptable under 608.10.0, confirms availability at the requested facility, and makes scheme preparations. USPS may revoke authorization of a customized address at any time upon notice to the customer. When requested delivery address lines are approved and applicable fees received, USPS will provide written authorization to the applicant.

5.9.4 Transferability

Authorized delivery address lines may not be transferred to another facility or customer.

5.9.5 Past-Due Caller Fee

Payments for customized addresses must be received at least 45 days before the applicable semiannual period. Payment of the renewal fee is due at least 45 days before the last day of the last month of the current period. Payment may be made for the next semiannual or annual period, as appropriate. If, on notice, the customer does not pay the fee by the 30th day before the end of the current payment period, the barcode sortation scheme will be revised to remove the separation for the caller. Once that change is made, the caller must reapply to obtain the former customized address.

5.9.6 Refund

A pro-rata refund is made only for future prepaid periods if a caller discontinues customized address or USPS revokes authorization of a customized address. No refund is made for the remaining part of the current fee period.

* * * * *

Joshua J. Hofer,
Attorney, Ethics & Legal Compliance.

[FR Doc. 2022-12846 Filed 6-16-22; 8:45 am]

BILLING CODE P